DEPARTMENT OF THE INTERIOR

Bureau of Land Management

[MT-050-1430-01; MTM 91719]

Notice of Proposed Withdrawal and Opportunity for Public Meeting; Montana

AGENCY: Bureau of Land Management, Interior.

ACTION: Notice.

SUMMARY: The Bureau of Land Management, proposes to withdraw approximately 400.917 acres of public land to protect resources acquired in the Axolotl Lakes area. This notice closes the land for up to 2 years from surface entry and mining. The land has been and will remain open to mineral leasing.

DATES: Comments must be received by December 17, 2002.

ADDRESSES: Comments and meeting requests should be sent to the State Director, Bureau of Land Management, Montana State Office, P.O. Box 36800, Billings, Montana 59107-6800.

FOR FURTHER INFORMATION CONTACT: Angela Perry, Dillon Field Office, 100 Selway Drive, Dillon, Montana 59725, (406) 683-2337, or Sandra Ward, Montana State Office, P.O. Box 36800, Billings, Montana 59107, (406) 896-5052.

SUPPLEMENTARY INFORMATION: On August 9, 2002, a petition was approved allowing the Bureau of Land Management to file an application to withdraw the following described land from settlement, sale, location and entry under the general land laws, including location and entry under the mining laws, but not from leasing under the mineral leasing laws.

Principal Meridian, Montana

T. 7 S., R. 2 W.,

Sec. 8, S½SE¼ and NW¼SE¼;

Sec. 17, N½NE¼.

Tract C, as shown on Perrault No. 1 Minor Subdivision Plat filed in Book 4 of Plats, Page 267, in the records of Madison County, Montana and being a tract of land located in the S½NE¼ of sec. 8 of T. 7 S., R. 2 W., and

Tract D, as shown on Certificate of Survey No. 1277, filed in Book 7 of Surveys, Page 1277, in the records of Madison County, Montana and being a tract of land located in S½NE¼ of sec. 8 and the S½N½ and SE¼ of sec. 9 of T. 7 S., R. 2 W.

The land described above contains 400.917 acres in Madison County

Notice is hereby given that an opportunity for a public meeting is afforded in connection with the proposed withdrawal. All interested persons who desire a public meeting for the purpose of being heard on the proposed withdrawal must submit a written request to the Montana State Director within 90 days from the date of publication of this notice. Upon determination by the authorized officer that a public meeting will be held, a notice of the time and place will be published in the Federal Register at least 30 days before the scheduled date of the meeting.

The application will be processed in accordance with the regulations set forth in 43 CFR part 2300.

For a period of 2 years from the date of publication of this notice in the Federal Register, the lands will be segregated as specified above, subject to valid existing rights, unless the proposal is denied or canceled or the withdrawal is finalized prior to the end of the segregation.

Dated: August 15, 2002.
Howard A. Lemm,
Acting Deputy State Director, Division of Resources.

[FR Doc. 02-23643 Filed 9-17-02; 8:45 am]

BILLING CODE 4310-$$-P